DEPARTMENT OF COMMERCE

National Oceanic and Atmospheric Administration

Agency Information Collection Activities; Submission to the Office of Management and Budget (OMB) for Review and Approval; Comment Request; NOAA Office of Education Higher Education Scholarship, Fellowship and Internship Programs

AGENCY: National Oceanic and Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, written or on-line comments must be submitted on or before May 27, 2022.

ADDRESSES: Interested persons are invited to submit written comments to Adrienne Thomas, NOAA PRA Officer, at NOAA.PRA@noaa.gov. Please reference OMB Control Number 0648-0568 in the subject line of your comments. Do not submit Confidential Business Information or otherwise sensitive or protected information.

FOR FURTHER INFORMATION CONTACT: Requests for additional information or specific questions related to collection activities should be directed to Natasha White, Management and Program Analyst, NOAA Office of Education, 1315 East-West Hwy., Silver Spring, MD 20910, 301-628-2906 or Natasha.White@noaa.gov.

SUPPLEMENTARY INFORMATION:

I. Abstract

This request is for extension and revision of a current information collection.

The National Oceanic and Atmospheric Administration (NOAA) Office of Education is sponsoring the information collection herein described. The Administrator of NOAA is authorized by section 4002 of the America COMPETES Act, Public Law 110-69, to establish and administer a Graduate Sciences Program and two undergraduate scholarship programs to enhance understanding of ocean, coastal, Great Lakes, and atmospheric science and stewardship by the general public and other coastal stakeholders, including underrepresented groups in ocean and atmospheric science and policy careers. In addition, NOAA's Administrator is authorized by section 214 of the Consolidated Appropriations Act, 2005, Public Law 108-447, to establish and administer the Ernest F. Hollings Undergraduate Scholarship Program to support undergraduate studies in oceanic and atmospheric science, research, technology, and education that support NOAA's mission and programs.

The NOAA Office of Education collects, evaluates, and assesses student data and information for the purpose of selecting successful candidates for scholarships, fellowships and internships, generating internal NOAA reports, and articles to demonstrate the success of its program.

The purpose of the NOAA Educational Partnership Program with Minority Serving Institutions (EPP/MSI) is to educate, train and graduate students in NOAA mission-aligned disciplines to build a pool of candidates eligible for the future NOAA workforce. The EPP/MSI program is strongly committed to broadening the participation of Minority Serving Institutions such as Historically Black Colleges and Universities, Hispanic Serving Institutions, Indian Tribally Controlled Colleges and Universities, Alaska Native-Serving Institutions, and Native Hawaiian-Serving Institutions. The EPP/MSI program has five program components: The Undergraduate Scholarship Program (USP); the Cooperative Science Centers (CSCs); Graduate Fellowship Program (GFP); the Graduate Sciences Program (GSP); and the Environmental Entrepreneurship Program (EEP). The GSP and EEP programs are no longer actively supporting students, however alumni of those programs may provide updates to EPP/MSI of educational and career changes.

The Ernest F. Hollings Undergraduate Scholarship Program was established to increase undergraduate training in oceanic and atmospheric science, research, technology, and education and foster multidisciplinary training opportunities. In an effort to increase the diversity of candidates applying to the Hollings Scholarship, the Hollings Preparation Program (HPP) was established in 2019.

The NOAA Office of Education requires all applicants to NOAA's Undergraduate Scholarship Programs to complete an application in order to be considered. The application package requires two faculty and/or academic advisors to complete a student scholar reference form in support of the scholarship application. Undergraduate scholarship recipients are required to complete a Student Scholarship Training Record to track their time, attendance, and accomplishments during their internships. Student scholar alumni are also requested to provide information to NOAA for internal tracking purposes. This information informs NOAA whether NOAA-funded students pursue and complete post-graduate NOAA-related science degrees, are employed by NOAA or a NOAA contractor, or in fields related to NOAA's mission.

NOAA EPP/MSI CSC grant award recipients are required to update the student tracker database with the required student information in order to assess compliance with award performance measures. While supported by NOAA scholarship and internship programs, the Office of Education surveys students and mentors to gain feedback on experiences and to assess program impact. Feedback collected from surveys will be used to improve programs to ensure the highest quality experience for supported students.

In compliance with Service Equity Assessment (E.O. 13985, Section 5) NOAA identified a lack of demographic information on people that work for (FTE, contractor, or grantee), or are interns, students or grantees of NOAA as a barrier to measuring the success of stated Diversity, Equity, Inclusion, and Justice (DEIJ) goals, and gaining approval to collect such data will be important moving forward. NOAA has a continuing commitment to monitor the operation of its review and award processes to identify and address any inequities based on gender, race, ethnicity, or disability of its proposed applicants. To gather information needed for this important task, the applicant(s) should submit the requested information for each identified applicant(s) with each proposal using the proposed optional demographic survey. Submission of the requested information is voluntary and is not a precondition of award unless otherwise noted by the opportunity. Any individual not wishing to submit some or all the information should check the box provided for this purpose. Upon receipt of the application, this form will be separated from the application. This form will not be duplicated, and it will not be a part of the review process (unless specified by the opportunity). Data will be confidential.

The collected data supports the Office of Education's program performance measures. To measure the impact of these programs, the data collected are compared to the available data in the national education databases (e.g., National Science Foundation and National Center for Education Statistics) and NOAA workforce management database. Furthermore, the student data collection identifies degree and NOAA mission-aligned discipline pipeline areas, guiding NOAA's effort to recruit for its mission-aligned educational and training programs and future workforce.

This information collection includes several changes to the type and amount of information being collected as described below:

1. Updates to Student Scholarship Application and Reference Forms

2. Addition of Student and Mentor Surveys

3. Addition of the Hollings Preparation Program Application and Surveys

4. Graduate Fellowship Program Application and References

5. Addition of Student Opportunities Optional Demographic Data Collection

6. Removal of the Dr. Nancy Foster and the National Marine Fisheries Service (NMFS) Recruiting, Training, and Research (RTR) Program

7. Revision of the collection title.

II. Method of Collection

Electronic applications and electronic forms are required from participants, and the primary methods of submission are email and internet transmission of electronic forms. Less than 1% of the application and reference forms may be mailed.

III. Data

OMB Control Number: 0648-0568.

Form Number(s): None.

Type of Review: Regular submission (extension and revision of a current information collection).

Affected Public: Individuals or households; business or other for-profit; not-for-profit institutions; Federal, State, Local or Tribal Government.

Estimated Number of Respondents: 4,769.

Estimated Time per Response: Hollings and EPP/MSI Application—12 hours; Hollings and EPP/MSI Reference—1 hour; Alumni Update Form—0.1 hours; Student Tracker Form—28 hours; EPP/MSI Graduate Fellowship Application—12 hours; EPP/MSI Graduate Fellowship References—1 hour; Student Training Record Form—0.5 hours; Hollings and EPP/MSI Student Surveys—0.25 hours; Hollings and EPP/MSI Applicant Survey—0.1 hours; Hollings and EPP/MSI Mentor Surveys—0.5 hours; Hollings Preparation Program Application—1 hour; Hollings Preparation Program Surveys—0.33 hours; Student Opportunities Optional Demographic Data Collection—0.25 hours.

Estimated Total Annual Burden Hours: 12,067.50.

Estimated Total Annual Cost to Public: $75 in recordkeeping/reporting costs.

Respondent's Obligation: Voluntary or Required to Obtain or Retain Benefits.

Legal Authority: The America COMPETES Act, Public Law 110-69, Section 4002; The Consolidated Appropriations Act, 2005, Public Law 108-447, Section 214; Executive Orders 13985 and 14035.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-06477 Filed 3-25-22; 8:45 am]

BILLING CODE 3510-12-P